SMALL BUSINESS ADMINISTRATION

Revocation of License of Small Business Investment Company

Pursuant to the authority granted to the United States Small Business Administration by the Final Order of the United States District Court for the District of New Jersey, dated September 13, 2004, in Civil Action No. 91-510 (DRD), the United States Small Business Administration hereby revokes the license of Taroco Capital Corporation, a New York corporation, to function as a small business investment company under the Small Business Investment Company License No. 02/02-5318 issued to Taroco Capital Corporation on September 10, 1976 and said license is hereby declared null and void as of September 30, 2004.

Dated: October 5, 2004.
United States Small Business Administration.
Jeffrey D. Pierson,
Associate Administrator for Investment.

[FR Doc. 04-22934 Filed 10-12-04; 8:45 am]

BILLING CODE 8025-01-P